CONSUMER PRODUCT SAFETY COMMISSION

16 CFR Part 1500

Public Meeting Concerning Bath Seat Rulemaking

AGENCY: Consumer Product Safety Commission.

ACTION: Notice of public meeting.

SUMMARY: The Consumer Product Safety Commission (“CPSC” or “Commission”) will conduct a public meeting on July 28, 2003 (possibly extending to July 29) to receive comments on the CPSC staff briefing package, which recommends that the Commission issue a notice of proposed rulemaking proposing that bath seats meet certain requirements. The Commission invites oral presentations from members of the public with information or comments related to the briefing package. The Commission will consider these presentations in its deliberations on the rulemaking.

DATES: The meeting will begin at 9 a.m. on July 28, 2003 and may continue to July 29 if necessary. Requests to make oral presentations, and 10 copies of the text of the presentation, must be received by the CPSC Office of the Secretary no later than July 21, 2003. Persons making presentations at the meeting should provide an additional 25 copies for dissemination on the date of the meeting.

The Commission reserves the right to limit the number of persons who make presentations and the duration of their presentations. To prevent duplicative presentations, groups will be directed to designate a spokesperson.

Written submissions, in addition to, or instead of, an oral presentation may be sent to the address listed below and will be accepted until August 28, 2003.

ADDRESSES: The meeting will be in room 420 of the East-West Towers Building, 4330 East-West Highway, Bethesda, MD. Requests to make oral presentations, and texts of oral presentations should be captioned “Bath Seat NPR” and be mailed to the Office of the Secretary, Consumer Product Safety Commission, Washington, DC 20207, or delivered to that office, room 502, 4330 East-West Highway, Bethesda, Maryland 20814. Requests and texts of oral presentations may also be submitted by facsimile to (301) 504-0127 or by e-mail to cpsc-os@cpsc.gov.

FOR FURTHER INFORMATION CONTACT: For information about the purpose or subject matter of this meeting contact Patricia L. Hackett, Project Manager, Directorate for Engineering Sciences, U.S. Consumer Product Safety Commission, Washington, DC 20207; telephone (301) 504-7577; e-mail: phackett@cpsc.gov. For information about the schedule for submission of requests to make oral presentations and submission of texts of oral presentations, contact Rockelle Hammond, Office of the Secretary, Consumer Product Safety Commission, Washington, DC 20207; telephone (301) 504-6833; fax (301) 504-0127; e-mail rhammond@cpsc.gov.

SUPPLEMENTARY INFORMATION:

A. Background

In July 2000, the Commission received a petition from the Consumer Federation of America (“CFA”) and eight other organizations requesting that the Commission issue a rule that would ban bath seats and bath rings (hereafter “bath seats”) under the Federal Hazardous Substances Act (“FHSA”). The Commission evaluated information from the CFA petition, a staff briefing package and public comments on the petition. On May 30, 2001, the Commission voted to grant the CFA petition and begin rulemaking. On August 1, 2001, the Commission published an advance notice of proposed rulemaking (“ANPR”) in the Federal Register. 66 FR 39692. The Commission received ten comments from nine individuals in response to the ANPR.

The staff reviewed the comments and relevant information and forwarded a briefing package to the Commission.

The staff recommends that the Commission issue a notice of proposed rulemaking (“NPR”) that would propose three requirements to address the three main hazard scenarios the staff identified from the reported fatalities.

The staff recommends a stability requirement to address the hazard of bath seats tipping over while in use. The staff has identified 30 fatalities and 80 non-fatal incidents or complaints involving bath seats tipping over that were reported from January 1983 through December 2002. The staff recommends a stability requirement that is essentially the same as the stability requirement in the ASTM voluntary standard but requires testing on a slip-resistant surface.

The staff has identified 3 deaths and 17 non-fatal incidents or complaints involving children who were submerged or entrapped in bath seats that were reported from January 1983 through December 2002. To address this hazard, the staff recommends a performance requirement specifying that the bath seat's leg openings not allow passage of probes that represent the shoulder and torso of an infant. This requirement is identical to one that ASTM approved in March 2003 for inclusion in its revised standard, ASTM F 1967-03.

The staff has identified 19 fatalities and 13 non-fatal incidents or complaints involving children coming out of bath seats that were reported from January 1983 through December 2002. The staff has not been able to develop performance criteria that could effectively address this hazard. The staff recommends a revised warning label to better alert caregivers to the danger of leaving a child alone in a bath seat.

B. The Public Meeting

The purpose of the public meeting is to provide a forum for oral presentations on the CPSC staff briefing package concerning the bath seat NPR.

Participation in the meeting is open. See the DATES section of this notice for information on making requests to give oral presentations at the meeting and on making written submissions.

Dated: June 3, 2003.
Todd A. Stevenson,
Secretary, Consumer Product Safety Commission.

[FR Doc. 03-14482 Filed 6-11-03; 8:45 am]

BILLING CODE 6355-01-P